SMALL BUSINESS ADMINISTRATION

National Women's Business Council; Notice of Public Meeting

AGENCY: National Women's Business Council, Small Business Administration.

ACTION: Notice of open public meeting.

DATES: The public meeting will be held on Tuesday, June 9, 2020, from 12:00 p.m. to 2:00 p.m. EDT.

ADDRESSES: Due to the coronavirus pandemic, this meeting will be held via a web conferencing platform. The access link and dial-in information will be provided to attendees upon registration.

FOR FURTHER INFORMATION CONTACT: The meeting is open to the public; however, advance notice of attendance is requested. To RSVP, the general public should visit the NWBC website at www.nwbc.gov. Select the “Meetings” tab at the top of the page, and you will find a link to register via Eventbrite.

To submit a written comment, individuals should email Ashley Judah at Ashley.Judah@sba.gov with subject line—“Response for 6/9/20 Public Meeting.” The agenda will allow for 20 minutes of public statements. This time will be awarded in 4-minute increments to the first 5 people who confirm attendance and request to speak. All other submitted statements will be included in the meeting record.

For more information, please visit the NWBC website at www.nwbc.gov or call 202-394-3539.

SUPPLEMENTARY INFORMATION: Pursuant to section 10(a)(2) of the Federal Advisory Committee Act (5 U.S.C., Appendix 2), the National Women's Business Council (NWBC) announces its second public meeting of Fiscal Year 2019. The 1988 Women's Business Ownership Act established NWBC to serve as an independent source of advice and policy recommendations to the President, Congress, and the Administrator of the U.S. Small Business Administration (SBA) on issues of importance to women entrepreneurs.

This meeting will allow the Council to provide an update on its latest initiatives and policy development. Each of the Council's four subcommittees (Rural Women's Entrepreneurship, Women in S.T.E.M., Access to Capital & Opportunity, and Communications) will present their current priorities and projects before the full body and the public.

Dated: May 14, 2020.
Nicole Nelson,
Committee Management Officer (Acting).

[FR Doc. 2020-11375 Filed 5-27-20; 8:45 am]

BILLING CODE P